DEPARTMENT OF THE TREASURY

United States Mint

Notification of American Eagle Gold Proof and Uncirculated Coin Price Increase

SUMMARY: The United States Mint is adjusting prices for its 2007 American Eagle Gold Proof and Uncirculated Coins.

Pursuant to the authority that 31 U.S.C. 5111(a) and 5112(a)(7-10) grant the Secretary of the Treasury to mint and issue gold coins, and to prepare and distribute numismatic items, the United States Mint mints and issues 2007 American Eagle Gold Proof and Uncirculated Coins with the following weights: One-ounce, one-half ounce, one-quarter ounce, one-tenth ounce. The United States Mint also produces an American Eagle four-coin set that contains one coin of each denomination. In accordance with 31 U.S.C. 9701(b)(2)(B), the United States Mint is changing the price of these coins to reflect the increase in value of the underlying precious metal content of the coins—the result of increases in the market price of gold.

Accordingly, effective February 1, 2008, the United States Mint will commence selling the following 2007 American Eagle Gold Uncirculated Coins and the 2007 American Eagle ⅒-Ounce Proof Coin according to the following price schedule:

Description | Price
2007 American Eagle ⅒-Ounce Gold Proof Coin: | $146.95
American Eagle Gold Uncirculated Coins:
One-ounce gold uncirculated coin | 1,045.95
One-half ounce gold uncirculated coin | 529.95
One-quarter ounce gold uncirculated coin | 279.95
One-tenth ounce gold uncirculated coin | 119.95
Four-coin gold uncirculated set | 1,939.95

FOR FURTHER INFORMATION CONTACT: Gloria C. Eskridge, Associate Director for Sales and Marketing; United States Mint; 801 Ninth Street, NW., Washington, DC 20220; or call 202-354-7500.

Authority: 31 U.S.C. 5111, 5112 & 9701.

Dated: January 31, 2008.
Daniel P. Shaver,
Acting Deputy Director, United States Mint.

[FR Doc. E8-2207 Filed 2-6-08; 8:45 am]

BILLING CODE 4810-02-P